DEPARTMENT OF AGRICULTURE

Animal and Plant Health Inspection Service

[Docket No. 05-029-1]

Public Meeting; Proposed Design and Development of a Phytosanitary Certificate Issuance and Tracking System

AGENCY: Animal and Plant Health Inspection Service, USDA.

ACTION: Notice of meeting.

SUMMARY: We are advising the public that the Plant Protection and Quarantine program of the Animal and Plant Health Inspection Service will hold a meeting to exchange information and receive input on the proposed Phytosanitary Certificate Issuance and Tracking System, which will improve the efficiency of the Federal phytosanitary certificate issuance process.

DATES: The public meeting will be held on July 14, 2005, from 9 a.m. to noon.

ADDRESSES: The public meeting will be held at the USDA Center at Riverside, 4700 River Road, Riverdale, MD.

FOR FURTHER INFORMATION CONTACT: Ms. Jo Ann Morris, Computer Specialist, Program Data Management and Analysis, PPQ, APHIS, 4700 River Road Unit 144, Riverdale, MD 20737-1236; (301) 734-5255.

SUPPLEMENTARY INFORMATION: The Animal and Plant Health Inspection Service's (APHIS) Plant Protection and Quarantine program (PPQ) provides certification of plants and plant products as a service to exporters. After assessing the phytosanitary condition of the plants or plant products intended for export, relative to the receiving country's regulations, an inspector issues an internationally recognized phytosanitary certificate (PPQ Form 577), a phytosanitary certificate for reexport (PPQ Form 579), an export certificate for processed plant products (PPQ Form 578), or a certificate of heat treatment (PPQ Form 553) if warranted. The regulations concerning export certification for plants and plant products are contained in 7 CFR part 353. Currently, more than 1,000 phytosanitary certificates are being tracked and issued manually per year.

Since 2002, PPQ has been working with Electronic Data Systems to develop a national Phytosanitary Certificate Issuance and Tracking System (PCIT), which would improve the tracking and traceback of Federal phytosanitary certificates, improve reporting capabilities, and reduce the incidence of errors and fraud. The PCIT is an interactive, Web-based system that will allow U.S. exporters to apply for phytosanitary certificates, schedule commodity inspections, and make payments on-line. PCIT will also allow APHIS to better manage Authorized Certification Officers' workload and enhance security and accountability of phytosanitary certificates.

In order to demonstrate the capabilities of the system and to provide information to interested industries about PCIT releases 2.0, 2.5 (the payment engine), and 3.0, PPQ will be holding a public meeting on July 14, 2005, in Riverdale, MD.

Registration

Due to space considerations, attendance at the public meeting will be limited to 100 people. We encourage preregistration. You may register by visiting http://www.aphis.usda.gov/ppq/pim/exports/pcit/ or by contacting Ms. Linda Toran by July 8, 2005, at (301) 734-5307 or by fax at (301) 734-8693. Onsite registration for any remaining spaces will be held on the day of the meeting from 8 a.m. to 9 a.m.

Parking and Security Procedures

Please note that a fee of $2.25 is required to enter the parking lot at the USDA Center at Riverside. The machine accepts $1 bills or quarters.

Picture identification is required to be admitted into the building. Upon entering the building, visitors should inform security personnel that they are attending the PCIT meeting.

Done in Washington, DC, this 15th day of June, 2005.
Elizabeth E. Gaston,
Acting Administrator, Animal and Plant Health Inspection Service.

[FR Doc. E5-3205 Filed 6-20-05; 8:45 am]

BILLING CODE 3410-34-P